DEPARTMENT OF TRANSPORTATION

Federal Aviation Administration

14 CFR Part 39

[Docket No. FAA-2008-0264; Directorate Identifier 2008-NE-07-AD]

RIN 2120-AA64

Airworthiness Directives; Honeywell International Inc. TFE731-4, -4R, -5, -5AR, -5BR, and -5R Series Turbofan Engines

AGENCY: Federal Aviation Administration (FAA), Department of Transportation (DOT).

ACTION: Notice of proposed rulemaking (NPRM).

SUMMARY: The FAA proposes to adopt a new airworthiness directive (AD) for Honeywell International Inc. TFE731-4, -4R, -5, -5AR, -5BR, and -5R series turbofan engines, with interstage turbine transition (ITT) duct, part number (P/N) 3075292-1; 3075292-3; 3074766-1; 3077063-1; 3075655-1; 3075655-2; 30756599-1; or 30756599-3, installed. This proposed AD would require replacing the affected ITT duct with a serviceable and redesigned ITT duct. This proposed AD results from reports of 49 low pressure turbine (LPT) blade separations. Six of those events resulted in circumferential failure of the LPT2 or LPT3 nozzle assembly, leading to deformation of the ITT duct and uncontainment of the turbine blades and fragments of the LPT nozzle assembly. We are proposing this AD to prevent uncontainment of turbine blades and fragments of the LPT nozzle assembly, which could result in damage to the airplane.

DATES: We must receive any comments on this proposed AD by June 3, 2008.

ADDRESSES: Use one of the following addresses to comment on this proposed AD.

• Federal eRulemaking Portal: Go to http://www.regulations.gov and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

You can get the service information identified in this proposed AD from Honeywell Engines and Systems Technical Publications and Distribution, M/S 2101-201, P.O. Box 52170, Phoenix, AZ 85072-2170, telephone: (602) 365-2493 (General Aviation), (602) 365-5535 (Commercial Aviation), fax: (602) 365-5577 (General Aviation and Commercial Aviation).

FOR FURTHER INFORMATION CONTACT: Joseph Costa, Aerospace Engineer, Los Angeles Aircraft Certification Office, FAA, Transport Airplane Directorate, 3960 Paramount Blvd., Lakewood, CA 90712-4137; e-mail: joseph.costa@faa.gov; telephone: (562) 627-5246; fax: (562) 627-5210.

SUPPLEMENTARY INFORMATION:

Comments Invited

We invite you to send us any written relevant data, views, or arguments regarding this proposal. Send your comments to an address listed under ADDRESSES. Include “Docket No. FAA-2008-0264; Directorate Identifier 2008-NE-07-AD” in the subject line of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is the same as the Mail address provided in the ADDRESSES section. Comments will be available in the AD docket shortly after receipt.

Discussion

In July 2006, we started receiving reports of LPT blade separations, which resulted in circumferential failure of the LPT2 or LPT3 nozzle assembly. To date, we have received reports of 49 LPT blade separations of which 6 of those events caused spinning of the LPT2 or LPT3 nozzle assembly. The spinning can lead to deformation of the ITT duct and uncontainment of the turbine blades and fragments of the LPT nozzle assembly. This condition, if not corrected, could result in uncontainment of turbine blades and fragments of the LPT nozzle assembly, leading to damage to the airplane.

FAA's Determination and Requirements of the Proposed AD

We have evaluated all pertinent information and identified an unsafe condition that is likely to exist or develop on other products of this same type design. We are proposing this AD, which would require replacing the affected ITT duct with a serviceable and redesigned ITT duct at the next Major Periodic Inspection of the engine or at next access of the ITT duct, whichever occurs first, but not to exceed 2,600 hours time-in-service after the effective date of the proposed AD. The serviceable and redesigned ITT duct will minimize the potential for uncontained events.

Costs of Compliance

We estimate that this proposed AD would affect 1,500 engines installed on airplanes of U.S. registry. We also estimate that it would take about 4 work-hours per engine to perform the proposed actions, and that the average labor rate is $80 per work-hour. Reworked ITT ducts to the redesign would cost about $25,000 per engine. New ITT ducts that are redesigned would cost about $127,000. We estimate that 30 engines would require new ITT ducts. Based on these figures, we estimate the total cost of the proposed AD to U.S. operators to be $41,040,000.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed AD:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a regulatory evaluation of the estimated costs to comply with this proposed AD. You may get a copy of this summary at the address listed under ADDRESSES.

List of Subjects in 14 CFR Part 39

Air transportation, Aircraft, Aviation safety, Safety.

The Proposed Amendment

Under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Honeywell International Inc. (formerly AlliedSignal Inc., formerly Garret Turbine Engine Company): Docket No. FAA-2008-0264; Directorate Identifier 2008-NE-07-AD.

Comments Due Date

(a) The Federal Aviation Administration (FAA) must receive comments on this airworthiness directive (AD) action by June 3, 2008.

Affected ADs

(b) None.

Applicability

(c) This AD applies to Honeywell International Inc. TFE731-4, -4R, -5, -5AR, -5BR, and -5R series turbofan engines, with interstage turbine transition (ITT) duct, part number (P/N) 3075292-1; 3075292-3; 3074766-1; 3077063-1; 3075655-1; 3075655-2; 30756599-1; or 30756599-3, installed. These engines are installed on, but not limited to, Avions Marcel Dassault Mystere-Falcon 50 series, Dassault-Aviation 20, 50, 900, MF900 series, Cessna Model 650, Cessna Citation VII, and Raytheon Corporate Jets (formerly British Aerospace) Hawker 800 and 850XP series airplanes.

Unsafe Condition

(d) This AD results from reports of 49 low pressure turbine (LPT) blade separations. Six of those events resulted in circumferential failure of the LPT2 or LPT3 nozzle assembly, leading to deformation of the ITT duct and uncontainment of the turbine blades and fragments of the LPT nozzle assembly. We are issuing this AD to prevent uncontainment of turbine blades and fragments of the LPT nozzle assembly, which could result in damage to the airplane.

Compliance

(e) You are responsible for having the actions required by this AD performed at the next Major Periodic Inspection of the engine or at next access of the ITT duct, whichever occurs first, but not to exceed 2,600 hours time-in-service after the effective date of this AD, unless the actions have already been done.

Replacement of the ITT Duct

(f) Replace the affected ITT ducts listed by part number in paragraph (c) of this AD, with a serviceable and redesigned ITT duct.

Definitions

(g) For the purpose of this AD, a serviceable and redesigned ITT duct is one not having a part number listed in this AD.

(h) For the purpose of this AD, next access of the ITT duct is when the ITT duct is removed from the engine.

Alternative Methods of Compliance

(i) The Manager, Los Angeles Aircraft Certification Office, has the authority to approve alternative methods of compliance for this AD if requested using the procedures found in 14 CFR 39.19.

Related Information

(j) Honeywell International Inc. Service Bulletin (SB) No. TFE731-72-3727, dated September 12, 2007, and SB No. TFE731-72-3728, dated September 12, 2007, pertain to the subject of this AD.

(k) Contact Joseph Costa, Aerospace Engineer, Los Angeles Aircraft Certification Office, FAA, Transport Airplane Directorate, 3960 Paramount Blvd., Lakewood, CA 90712-4137; e-mail: joseph.costa@faa.gov; telephone: (562) 627-5246; fax: (562) 627-5210, for more information about this AD.

Issued in Burlington, Massachusetts, on March 31, 2008.
Peter A. White,
Assistant Manager, Engine and Propeller Directorate, Aircraft Certification Service.

[FR Doc. E8-6993 Filed 4-3-08; 8:45 am]

BILLING CODE 4910-13-P